DEPARTMENT OF COMMERCE

Economic Development Administration

Notice of Petitions by Producing Firms for Determination of Eligibility To Apply for Trade Adjustment Assistance

AGENCY: Economic Development Administration (EDA).

ACTION: To Give All Interested Parties an Opportunity to Comment.

Petitions have been accepted for filing on the dates indicated from the firms listed below.

List of Petition Action by Trade Adjustment Assistance for Period July 17, 2002-August 16, 2002
Firm name | Address | Date petition accepted | Product
Auto Crane Company | 4707 North Mingo Road, Tulsa, OK 74417 | 18-Jul-2002 | Truck bodies with cranes.
First Process Steel, Inc | 2678 North Harvard, Tulsa, OK 74415 | 18-Jul-2002 | Steel plates including wavy bars.
PAL Manufacturing | 5618 Highway C, Joplin, MO 64801 | 22-Jul-2002 | Wooden curio cabinets.
A-1 Machine, Inc | 10015 East 52nd Street, Tulsa, OK 74147 | 23-Jul-2002 | Fabricated pump housings.
Griffin and Company, Inc | P. O. Box 17347, Louisville, KY 40217 | 24-Jul-2002 | Sheet metal fabricator of ductwork for air handling systems.
Original Saw Company | 465 3rd Avenue S.E., Britt, IA 50423 | 09-Aug-2002 | Radial arm saws.
Iten Industries, Inc | 4602 Benefit Avenue, Ashtabula, OH 44005 | 01-Aug-2002 | Fabricated plastic parts for the lighting, electronic, industrial and furniture industries.
K & S Wire Products, Inc | 300 Nelson Avenue, Neosho, MO 64850 | 01-Aug-2002 | Wire display racks and animal cages.
Alliance Rubber Co., Inc | 210 Carpenter Dam Road, Hot Springs, AR 71903 | 01-Aug-2002 | Rubber bands.
Unitech, Inc. | 3826 Bennington, Kansas City, MO 64129 | 01-Aug-2002 | Steel crane parts.
Special Product Co. | 8500 W. 110th Street, Overland Park, KS 66210 | 02-Aug-2002 | Metal repeater housings.
Cordier Estates, Inc | P. O. Box 697, Fort Stockton, TX 79735 | 02-Aug-2002 | Wine.
Blue Grass Manufacturing Co. of Lexington, Inc | 1454 Jungle Bell Lane, Lexington, KY 40509 | 16-Aug-2002 | Commercial dryer parts.

The petitions were submitted pursuant to section 251 of the Trade Act of 1974 (19 U.S.C. 2341). Consequently, the Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, Department of Commerce, Washington, DC 20230, no later than the close of business of the tenth calendar day following the publication of this notice.

The Catalog of Federal Domestic Assistance official program number and title of the program under which these petitions are submitted is 11.313, Trade Adjustment Assistance.

Dated: August 19, 2002.
Anthony J. Meyer,
Coordinator, Trade Adjustment and Technical Assistance.

[FR Doc. 02-22014 Filed 8-28-02; 8:45 am]

BILLING CODE 3510-24-P